DEPARTMENT OF ENERGY

[OE Docket No. EA-392]

Application To Export Electric Energy; Emera Energy Services Subsidiary No. 7 LLC

AGENCY: Office of Electricity Delivery and Energy Reliability, DOE.

ACTION: Notice of application.

SUMMARY: Emera Energy Services Subsidiary No. 7 LLC (EESS-7) has applied for authority to transmit electric energy from the United States to Canada pursuant to section 202(e) of the Federal Power Act (FPA).

DATES: Comments, protests, or motions to intervene must be submitted on or before April 21, 2014.

ADDRESSES: Comments, protests, or motions to intervene should be addressed to: Michael L. Rodrigue, Office of Electricity Delivery and Energy Reliability, Mail Code: OE-20, U.S. Department of Energy, 1000 Independence Avenue SW., Washington, DC 20585-0350. Because of delays in handling conventional mail, it is recommended that documents be transmitted by overnight mail, by electronic mail to Michael.Rodrigue@hq.doe.gov, or by facsimile to 202-586-8008.

FOR FURTHER INFORMATION CONTACT: Michael L. Rodrigue (Program Office) at 202-586-2942, or by email at Michael.Rodrigue@hq.doe.gov.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the Federal Power Act (16 U.S.C. 824a(e)).

On February 25, 2014, DOE received an application from EESS-7 for authority to transmit electric energy from the United States to Canada for five years as a power marketer using existing international transmission facilities. EESS-7 does not own any electric transmission facilities nor does it hold a franchised service area. EESS-7 states that it will make all of the necessary commercial arrangements and will obtain any and all of the required regulatory approvals in order to effect any power exports.

The electric energy that EESS-7 proposes to export to Canada would be surplus energy purchased from electric utilities and other entities within the United States. The existing international transmission facilities to be utilized by EESS-7 have previously been authorized by Presidential permits issued pursuant to Executive Order 10485, as amended, and are appropriate for open access transmission by third parties.

Procedural Matters: Any person desiring to be heard in this proceeding should file a comment or protest to the application at the address provided above. Protests should be filed in accordance with Rule 211 of the Federal Energy Regulatory Commission's (FERC) Rules of Practice and Procedures (18 CFR 385.211). Any person desiring to become a party to these proceedings should file a motion to intervene at the above address in accordance with FERC Rule 214 (18 CFR 385.214). Five copies of such comments, protests, or motions to intervene should be sent to the address provided above on or before the date listed above.

Comments on the EESS-7 application to export electric energy to Canada should be clearly marked with OE Docket No. EA-392. An additional copy is to be provided directly to Will Szubielski, c/o Emera Energy Inc., 1223 Lower Water Street, Halifax, Nova Scotia B3J 3S8 and Bonnie A. Suchman, Troutman Sanders LLP, 401 9th Street NW., Suite 1000, Washington, DC 20004. A final decision will be made on this application after the environmental impacts have been evaluated pursuant to DOE's National Environmental Policy Act Implementing Procedures (10 CFR part 1021) and after a determination is made by DOE that the proposed action will not have an adverse impact on the sufficiency of supply or reliability of the U.S. electric power supply system.

Copies of this application will be made available, upon request, for public inspection and copying at the address provided above, by accessing the program Web site at http://energy.gov/node/11845, or by emailing Angela Troy at Angela.Troy@hq.doe.gov.

Issued in Washington, DC, on March 14, 2014.
Brian Mills,
Director, Permitting and Siting, Office of Electricity Delivery and Energy Reliability.

[FR Doc. 2014-06190 Filed 3-20-14; 8:45 am]

BILLING CODE 6450-01-P